DEPARTMENT OF TRANSPORTATION

Coast Guard

33 CFR Part 117

[CGD01-02-030]

Drawbridge Operation Regulations: Hackensack River, NJ

AGENCY: Coast Guard, DOT.

ACTION: Notice of temporary deviation from regulations.

SUMMARY: The Commander, First Coast Guard District, has issued a temporary deviation from the drawbridge operation regulations that govern the NJTRO HX Railroad Bridge, mile 7.7, across the Hackensack River at Secaucus, New Jersey. This deviation from the regulations, effective from April 6, 2002 through April 28, 2002, allows the bridge to remain in the closed position on four weekends to facilitate scheduled maintenance repairs at the bridge.

DATES: This deviation is effective from April 6, 2002 through April 28, 2002.

FOR FURTHER INFORMATION CONTACT: Joe Arca, Project Officer, First Coast Guard District, at (212) 668-7165.

SUPPLEMENTARY INFORMATION: The existing drawbridge operating regulations are listed at 33 CFR 117.723.

The owner of the bridge, the New Jersey Transit, requested a temporary deviation from the drawbridge operating regulations that govern their NJTRO HX Bridge, at mile 7.7, across the Hackensack River in Secaucus, New Jersey, to facilitate necessary structural repairs at the bridge.

This deviation to the operating regulations allows the NJTRO HX Bridge to remain in the closed position every weekend in April, from 6 a.m. on Saturday through 6 p.m. on Sunday. The effective dates are as follows: April 6-7, 13-14, 20-21, 27-28, 2002. The Coast Guard coordinated this closure with the mariners that normally use this waterway to help select the best effective dates this temporary deviation will be in effect.

This deviation from the operating regulations is authorized under 33 CFR 117.35, and will be performed with all due speed in order to return the bridge to normal operation as soon as possible.

Dated: March 19, 2002.
G.N. Naccara,
Rear Admiral, U.S. Coast Guard, Commander, First Coast Guard District.

[FR Doc. 02-7358 Filed 3-26-02; 8:45 am]

BILLING CODE 4910-15-P